DEPARTMENT OF COMMERCE

National Oceanic and Atmospheric Administration

[I.D. 112602C]

Endangered Species; File No. 1377

AGENCY: National Marine Fisheries Service (NMFS), National Oceanic and Atmospheric Administration (NOAA), Commerce.

ACTION: Issuance of permit.

SUMMARY: Notice is hereby given that Ms. Tracey Mueller, Mote Marine Laboratory, Sea Turtle Conservation and Research Program, Sarasota, FL has been issued a permit to take threatened and endangered green turtles (Chelonia mydas), endangered hawksbill turtles (Eretmochelys imbricata), endangered Kemp's ridley turtles (Lepidochelys kempii), and threatened loggerhead turtles (Caretta caretta) for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)713-0376; and Southeast Region, NMFS, 9721 Executive Center Drive North, St. Petersburg, FL 33702-2432; phone (727)570-5301; fax (727)570-5320.

FOR FURTHER INFORMATION CONTACT: Dr. Tammy Adams or Ruth Johnson, (301)713-2289.

SUPPLEMENTARY INFORMATION: On April 19, 2002, notice was published in the Federal Register (67 FR 19416) that a request for a scientific research permit to take green, loggerhead, Kemp's ridley, and hawksbill turtles had been submitted by the above-named individual. The requested permit has been issued under the authority of the Endangered Species Act of 1973, as amended (ESA; 16 U.S.C. 1531 et seq.), and the regulations governing the taking, importing, and exporting of endangered and threatened species (50 CFR parts 222-226).

The permit authorizes annual takes of 150 juvenile and subadult green turtles, 100 juvenile and sub-adult loggerhead, 150 juvenile and sub-adult Kemp's ridley, and 5 juvenile and sub-adult hawksbill turtles by capture, tagging, blood and tissue sampling for a five year population assessment of the juvenile sea turtles inhabiting Charlotte Harbor on the west coast of Florida. Up to 10 green, 10 Kemp's ridley, 10 loggerhead, and 5 hawksbill turtles will also be collected annually incidental to the Center for Shark Research gill netting for sharks in the areas of Pine Island Sound and the Gulf waters near Crystal River, FL. These turtles will be measured, flipper tagged and released. In the second through fifth years of the permit, up to 5 green and/or Kemp's ridley turtles will also have satellite tags attached.

Issuance of this permit, as required by the ESA, was based on a finding that such permit (1) was applied for in good faith, (2) will not operate to the disadvantage of the endangered species which is the subject of this permit, and (3) is consistent with the purposes and policies set forth in section 2 of the ESA.

Dated: December 4, 2002.
Eugene T. Nitta,
Acting Chief, Permits, Conservation and Education Division, Office of Protected Resources, National Marine Fisheries Service.

[FR Doc. 02-31446 Filed 12-12-02; 8:45 am]

BILLING CODE 3510-22-S